FEDERAL DEPOSIT INSURANCE CORPORATION

Agency Information Collection Activities: Proposed Collection; Comment Request

AGENCY: Federal Deposit Insurance Corporation (FDIC).

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning the following collections of information titled: (1) Securities of Insured Nonmember Banks, (2) Fair Housing Lending Monitoring System, (3) Public Disclosure by Banks; and (4) Procedures for Monitoring Bank Protection Act Compliance.

DATES: Comments must be submitted on or before June 16, 2003.

ADDRESSES: Interested parties are invited to submit written comments to Tamara R. Manly, Management Analyst (Consumer and Compliance Unit), (202) 898-7453, Legal Division, Room MB-3109, Attention: Comments/Legal, Federal Deposit Insurance Corporation, 550 17th Street NW., Washington, DC 20429. All comments should refer to the OMB control number. Comments may be hand-delivered to the guard station at the rear of the 17th Street Building (located on F Street), on business days between 7 a.m. and 5 p.m. [Internet address: comments@fdic.gov].

A copy of the comments may also be submitted to the OMB desk officer for the FDIC: Joseph F. Lackey, Jr., Office of Information and Regulatory Affairs, Office of Management and Budget, New Executive Office Building, Room 10236, Washington, DC 20503.

FOR FURTHER INFORMATION CONTACT: Tamara R. Manly, at the address identified above.

SUPPLEMENTARY INFORMATION: Proposal to renew the following currently approved collections of information:

1. Title: Securities of Insured Nonmember Banks.

OMB Number: 3064-0030.

Form Number: F-7, F-8, and F-8A.

Frequency of Response: Annually.

Affected Public: Officers, directors and shareholders from FDIC-supervised banks.

Estimated Number of Respondents: 1,755.

Number of Responses per Respondent: 1.35.

Estimated Time per Response: 0.62 hours.

Total Annual Burden: 1,470 hours.

General Description of Collection: The information is collected from FDIC-supervised banks and from officers, directors and shareholders subject to the securities registration requirements of the Securities Exchange Act of 1934, as amended. The information is considered necessary for actual and potential investors making investment decisions concerning securities issued by reporting banks.

2. Title: Fair Housing Lending Monitoring System.

OMB Number: 3064-0046.

Frequency of Response: Annually.

Affected Public: Insured state nonmember banks.

Estimated Number of Respondents: 2,000.

Estimated Annual Number of Loan Applications: 1,000,000.

Estimated Time per Response: 5 minutes.

Total Annual Burden: 83,333 hours.

General Description of Collection: In order to permit the FDIC to detect discrimination in residential mortgage lending, certain insured state nonmember banks are required by FDIC regulation 12 CFR 338 to maintain various data on home loan applicants.

3. Title: Public Disclosure by Banks.

OMB Number: 3064-0090.

Frequency of Response: Annually.

Affected Public: All financial institutions.

Estimated Number of Respondents: 5,500.

Estimated Time per Response: 0.5 hours.

Total Annual Burden: 2,750 hours.

General Description of Collection: 12 CFR 350 requires a bank to notify the general public, and in some instances, shareholders, that disclosure statements are available upon request. Required disclosures consist of financial reports for the current and preceding year which can be copied directly from the year-end Call Report.

4. Title: Procedures for Monitoring Bank Protection Act Compliance.

OMB Number: 3064-0095.

Frequency of Response: Annually.

Affected Public: All financial institutions.

Estimated Number of Respondents: 5,500.

Estimated Time per Response: ½ hour.

Total Annual Burden: 2,750 hours.

General Description of Collection: The collection requires insured state nonmember banks to comply with the Bank Protection Act and to review bank security programs.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for renewal of these collections. All comments will become a matter of public record.

Dated at Washington, DC, this 9th day of April, 2003.
Federal Deposit Insurance Corporation.
Robert E. Feldman,
Executive Secretary.

[FR Doc. 03-9207 Filed 4-14-03; 8:45 am]

BILLING CODE 6714-01-P